DEPARTMENT OF THE INTERIOR

Bureau of Land Management

[LLCON04000 L16100000.DP0000]

Notice of Availability of the Draft Resource Management Plan Amendment and Supplemental Environmental Impact Statement for the Roan Plateau Planning Area, Colorado

AGENCY: Bureau of Land Management, Interior.

ACTION: Notice.

SUMMARY: In accordance with the National Environmental Policy Act of 1969, as amended (NEPA), and the Federal Land Policy and Management Act of 1976, as amended, the Bureau of Land Management (BLM) has prepared a Draft Resource Management Plan (RMP) Amendment and Draft Supplemental Environmental Impact Statement (EIS) for the Roan Plateau planning area and by this notice is announcing the opening of a 90-day comment period.

DATES: To ensure that comments will be considered, the BLM must receive written comments on the Draft RMP Amendment/Draft Supplemental EIS within 90 days following the date the U.S. Environmental Protection Agency (EPA) publishes its notice of the Draft RMP Amendment/Draft Supplemental EIS in the Federal Register. The BLM will announce future meetings or hearings and any other public participation activities at least 15 days in advance through public notices, media releases, and/or mailings.

ADDRESSES: You may submit comments related to the Roan Plateau Draft RMP Amendment/Draft Supplemental EIS by any of the following methods:

• Web site: www.blm.gov/co/st/en/BLM_Programs/land_use_planning/rmp/roan_plateau.html.

• Email: roanplateau@blm.gov.

• Fax: 970-876-9090.

• Mail: BLM Colorado River Valley Field Office, Attn: Roan Plateau SEIS, 2300 River Frontage Road, Silt, CO 81652.

Copies of the Roan Plateau Draft RMP Amendment/Draft Supplemental EIS are available in the Colorado River Valley Field Office at the above address.

FOR FURTHER INFORMATION CONTACT: Greg Larson, Project Manager, telephone (970) 876-9048, see address above; email glarson@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM prepared the Roan Plateau Draft RMP Amendment/Supplemental EIS to evaluate a range of management decisions for resources, resource uses and special designations and to respond to a June 22, 2012, ruling by the United States District Court for the District of Colorado remanding the 2007 and 2008 Roan Plateau Records of Decision. The Court set aside the 2007 Roan Plateau Plan amendment and remanded the matter to the BLM for further action in accordance with the Court's decision. In particular, the Court found that the Final EIS was deficient insofar as it failed to sufficiently address: (i) The “Community Alternative” that various local governments, environmental organizations, and individual members of the public recommended; (ii) The cumulative air quality impacts of the Plan amendment decision in conjunction with anticipated oil and gas development on private lands outside the Roan Plateau Planning Area; and (iii) The issue of potential ozone impacts from proposed oil and gas development. In view of the Court's ruling and new information available since the BLM developed the Final EIS, the BLM determined that a new proposed Plan Amendment and a supplemental analysis under NEPA were warranted. Additionally, a settlement agreement was reached among the parties involved in the litigation in November 2014. The Supplemental EIS includes an alternative that was part of the November 2014 settlement.

The Planning Area, which is in west-central Colorado, includes approximately 73,602 acres of Federal land (Federal surface, Federal mineral estate, or both), and is located primarily in Garfield County with a small portion in southern Rio Blanco County. The Roan Plateau RMP Amendment proposes to amend the Glenwood Springs and White River RMPs for the resource management decisions within the Planning Area. The BLM began developing the Roan Plateau RMP Amendment with scoping in 2000. The Draft EIS was published in November 2004. The Final EIS was published in August 2006. The BLM then issued two Records of Decision, one in June 2007 and a second, pertaining to Areas of Critical Environmental Concern, in March 2008. Following the District Court ruling in 2012, the Notice of Intent to develop the Draft RMP Amendment/Supplemental EIS was published in January 2013, initiating a second scoping period. The BLM held two public scoping meetings in February 2013 and received approximately 25,000 comment submissions during the scoping period. The Colorado River Valley Field Office held eight Cooperating Agency meetings for the Supplemental EIS. Cooperating agencies included the EPA, the U.S. Fish and Wildlife Service, the Colorado Department of Natural Resources and Colorado Parks and Wildlife, the City of Rifle, the towns of Silt and Parachute, and Rio Blanco, Garfield, and Mesa Counties. No other Federal agencies manage surface within the planning area. The closest non-BLM surface management unit to the Roan Plateau planning area is the White River National Forest to the northwest.

Major issues considered in the Draft RMP Amendment/Supplemental EIS include fluid minerals management, social and economic impacts, riparian habitat management; and air, water, and ecological resources. Due to the limited size of the Planning Area and the supplemental nature of this analysis, regional mitigation and landscape level analysis are not specifically considered in this document; however, the BLM Colorado River Valley and White River field offices have considered them in their broader planning areas. The RMP also addresses decisions regarding Wild and Scenic Rivers, Areas of Critical Environmental Concern (ACECs), and lands with wilderness characteristics. Greater Sage-Grouse decisions proposed in the Amendment are consistent with the Northwest Colorado Greater Sage-Grouse Amendment Record of Decision.

The Draft RMP Amendment/Supplemental EIS focuses on evaluating new information and new issues raised since the BLM developed the 2006 Roan Plateau Final EIS. This includes an evaluation of four alternatives including the No Action Alternative (Alternative I). Alternative II is based on the Proposed Plan from the 2006 Roan RMP Amendment/Final EIS and includes updated decisions and analysis based on new information, including refined mapping, and issues raised during scoping. Alternative III is based on the “Community Alternative” raised during the original EIS process by Rock the Earth, and augmented with input from Supplemental EIS scoping comments. This alternative allows oil and gas leasing throughout the planning area, but limits surface disturbance on BLM lands above the rim (i.e, on top of the plateau). Wilderness characteristics would be managed for protection in this alternative, and all eligible rivers in the planning area would be determined to be suitable for designation as Wild and Scenic Rivers. Target shooting would be prohibited within ¼ mile (610 acres) of a popular road that runs through an area designated as open to cross country off-highway vehicle travel in Alternative III. Alternative IV is the BLM's Preferred Alternative and is based on the terms of the Settlement Agreement. This alternative would allow for leasing at the base of the plateau (11,170 acres) and within several retained lease areas on the top of the plateau (1,830 acres), subject to development restrictions described in the Settlement Agreement. Specific management prescriptions intended to protect lands with wilderness characteristics and Wild and Scenic Rivers are not proposed in this alternative as they were not addressed as part of the Settlement Agreement; however, they are analyzed within the range of alternatives for consideration. Other resource management decisions in this alternative would be similar to Alternative II.

Pursuant to 43 CFR 1610.7-2(b), this notice announces a concurrent public comment period on the proposed ACECs, as the previous ACEC decisions are also being revisited consistent with the Court's remand. The BLM analyzed potential ACECs meeting the relevance and importance criteria within the range of alternatives. All three action alternatives analyze the designation of four ACECs to protect key fisheries, botanical/ecological resources, and visual resources. The ACECs overlay areas with management prescriptions that include No Surface Occupancy stipulations and other restrictions specific to these resources. The proposed ACECs include:

• East Fork Parachute Creek: 6,990 acres (Alternatives II, III), 7,110 acres (Alternative IV)

• Trapper/Northwater Creek: 6,290 acres (Alternatives II, III, and IV)

• Magpie Gulch: 4,710 acres (Alternatives II, III, and IV); and

• Anvil Points: 6,900 acres (Alternatives II, III, and IV).

Please note that public comments and all information submitted with such comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Ruth Welch,
BLM Colorado State Director.

[FR Doc. 2015-29716 Filed 11-19-15; 8:45 am]

BILLING CODE 4310-JB-P